ENVIRONMENTAL PROTECTION AGENCY

[EPA-HQ-OPP-2009-1017; FRL-9912-79]

Iprodione, Pendimethalin, and Permethrin; Order To Amend Pesticide Registrations To Terminate Uses

AGENCY: Environmental Protection Agency (EPA).

ACTION: Notice.

SUMMARY: EPA hereby orders, pursuant to the Federal Insecticide, Fungicide, and Rodenticide Act (FIFRA), that the registrations of pesticide products containing iprodione, pendimethalin, and permethrin be amended to terminate certain uses. This order follows a May 9, 2014 Federal Register Notice of Receipt that announced and sought comment on requests from the registrants to voluntarily amend their registrations to terminate certain uses of these product registrations. These are not the last products containing these pesticide active ingredients that are registered for use in the United States. The Agency did not receive any comments concerning the registrants' requests; nor did the registrants subsequently withdraw their requests. Accordingly, EPA hereby issues this order granting the requests. Any distribution, sale, or use of the products subject to this order is permitted only in accordance with the terms of this order, including any existing stocks provisions.

DATES: The amendments are effective August 13, 2014.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2009-1017, is available at http://www.regulations.gov or at the Office of Pesticide Programs Regulatory Public Docket (OPP Docket) in the EPA Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What is the agency's authority for taking this action?

Section 6(f)(1) of FIFRA, 7 U.S.C. 136d(f)(1), provides that a registrant of a pesticide product may at any time request that any of its pesticide registrations be canceled or amended to terminate one or more uses. FIFRA further provides that, before acting on the request, EPA must publish a notice of receipt of any such request in the Federal Register and provide an opportunity for public comment. Thereafter, following the public comment period, EPA may approve such a request.

III. What action is the agency taking?

This order amends the registrations of certain products registered under FIFRA section 3, 7 U.S.C. 136a, in order to terminate certain uses. The amendments were specifically requested by the registrants. The amended registrations are listed in sequence by registration number in Table 1 of this unit, which also identifies the product names and terminated uses. These products are not the last products containing these pesticide active ingredients that are registered for use in the United States.

Table 1—Iprodione, Pendimethalin, and Permethrin Product Registration Amendments to Terminate Certain Uses
EPA registration No. | Product name | Uses terminated
000270-00279 | Farnam Purge Pesticide | Use on dogs.
000279-09562 | Iprodione Technical | Use on rice.
000279-09564 | Rovral® brand 4 Flowable Fungicide | Use on rice.
000279-09565 | Rovral® R Flowable Fungicide | Use on rice.
000279-09566 | Rovral® brand WG Fungicide | Use on rice.
000279-09567 | Rovral® 50 SP Fungicide | Use on rice.
000279-09569 | Rovral® brand 75WG Fungicide | Use on rice.
019713-00600 | Drexel Pendimethalin Technical | Use on alfalfa, corn (field, pop, sweet), garlic, onions (dry bulb, green, welsh), peanuts, sorghum (grain), sugarcane, and sunflower.

Table 2 of this unit, includes the names and addresses of record for all registrants of the products in Table 1 of this unit, in sequence by the EPA company number. This number corresponds to the first part of the EPA registration numbers of the products listed in Table 1 of this unit.

Table 2—Registrants of Amended Products
EPA company No. | Company name and address
270 | Farnam Companies, Inc. 301 West Osborn Rd. Phoenix, AZ 85013.
279 | FMC Corp. Agricultural Products Group 1735 Market St. Room 1978 Philadelphia, PA 19103.
19713 | Drexel Chemical Company P.O. Box 13327 Memphis, TN 38113-0327.

IV. Summary of Public Comments Received and Agency Response to Comments

In the Federal Register of May 9, 2014 (79 FR 26754) (FRL-9909-95), EPA announced and sought public comment on requests from the registrants to voluntarily amend their registrations to terminate uses of the products as listed in Table 1 of Unit III. In the May 9, 2014 notice, EPA indicated that it would issue an order implementing the requested amendments to terminate uses, unless the Agency received substantive comments within the 30-day comment period that would merit its further review of these requests, or unless the registrants withdrew their requests. The Agency did not receive any comments concerning that notice; nor did the registrants subsequently withdraw their requests.

V. EPA's Order

Pursuant to FIFRA section 6(f), EPA hereby approves the requested amendments to terminate uses of iprodione, pendimethalin, and permethrin registrations as identified in Table 1 of Unit III. Accordingly, the Agency hereby orders that the product registrations identified in Table 1 of Unit III., are amended to terminate the uses as identified in Table 1 of Unit III. The effective date of the amendments that are subject to this order is August 13, 2014. Any distribution, sale, or use of existing stocks of the products identified in Table 1 of Unit III., in a manner inconsistent with any of the provisions for disposition of existing stocks set forth in Unit VI. will be a violation of FIFRA.

VI. Provisions for Disposition of Existing Stocks

Existing stocks are those stocks of registered pesticide products which are currently in the United States and which were packaged, labeled, and released for shipment prior to the effective date of the action. The existing stocks provision for the products subject to this order is as follows.

Now that EPA has approved product labels reflecting the requested amendments to terminate uses, registrants are permitted to sell or distribute products listed in Table 1 of Unit III., under the previously approved labeling until February 15, 2016, a period of 18 months after publication of this order in the Federal Register, unless other restrictions have been imposed. Thereafter, registrants will be prohibited from selling or distributing the products whose labels include the terminated uses identified in Table 1 of Unit III., except for export consistent with FIFRA section 17 or for proper disposal.

Persons other than the registrant may sell, distribute, or use existing stocks of products whose labels include the terminated uses until supplies are exhausted, provided that such sale, distribution, or use is consistent with the terms of the previously approved labeling on, or that accompanied, the products with terminated uses.

List of Subjects

Environmental protection, Pesticides and pests.

Dated: July 31, 2014.
Richard P. Keigwin, Jr.,
Director, Pesticide Re-Evaluation Division, Office of Pesticide Programs.

[FR Doc. 2014-19061 Filed 8-12-14; 8:45 am]

BILLING CODE 6560-50-P